GENERAL SERVICES ADMINISTRATION

[OMB Control No. 3090-0014; Docket No. 2025-0001; Sequence No. 2]

Information Collection; Transfer Order-Surplus Personal Property and Continuation Sheet, Standard Form (SF) 123

AGENCY: Federal Acquisition Service, General Services Administration (GSA).

ACTION: Notice; request for comments.

SUMMARY: Under the provisions of the Paperwork Reduction Act, the Regulatory Secretariat Division will be submitting to the Office of Management and Budget (OMB) a request to review and approve an extension of a previously approved information collection requirement regarding the Transfer Order-Surplus Personal Property and Continuation Sheet, Standard Form (SF) 123.

DATES: Submit comments on or before: March 17, 2025.

ADDRESSES: Submit comments regarding this burden estimate or any other aspect of this collection of information, including suggestions for reducing this burden to https://www.regulations.gov. Submit comments via the Federal eRulemaking portal by searching the OMB control number.

Select the link “Comment Now” that corresponds with “Information Collection 3090-0014, Transfer Order-Surplus Personal Property and Continuation Sheet, Standard Form (SF) 123”. Follow the instructions provided on the screen.

Please include your name, company name (if any), and “Information Collection 3090-0014, Transfer Order-Surplus Personal Property and Continuation Sheet, Standard Form (SF) 123”. on your attached document.

If your comment cannot be submitted using regulations.gov, call or email the points of contact in the FOR FURTHER INFORMATION CONTACT section of this document for alternate instructions.

Instructions: Please submit comments only and cite “Information Collection 3090-0014, Transfer Order-Surplus Personal Property and Continuation Sheet, Standard Form (SF) 123”, in all correspondence related to this collection. Comments received generally will be posted without change to regulations.gov, including any personal and/or business confidential information provided. To confirm receipt of your comment(s), please check regulations.gov, approximately two-to-three business days after submission to verify posting.

FOR FURTHER INFORMATION CONTACT: Mr. Christopher Willett, Property Disposal Specialist, GSA Office of Personal Property Management, at telephone 703-605-2873 or via email to christopher.willett@gsa.gov.

SUPPLEMENTARY INFORMATION:

A. Purpose

The Transfer Order-Surplus Personal Property and Continuation Sheet, Standard form (SF) 123, is used by a State Agency for Surplus Property (SASP) to donate Federal surplus personal property to public agencies, nonprofit educational or public health activities, programs for the elderly, service educational activities, and public airports. The SF 123 serves as the transfer instrument and includes item descriptions, transportation instructions, nondiscrimination assurances, and approval signatures.

B. Annual Reporting Burden

Electronic

Responses: 23,211.

Burden Hours (at .017 Hours per Response): 394.59.

Manual

Responses: 153.

Burden Hours (at .13 Hours per Response): 19.89.

Total Annual Responses: 23,364.

Total Burden Hours: 414.48.

C. Public Comments

Public comments are particularly invited on: Whether this collection of information is necessary and whether it will have practical utility; whether our estimate of the public burden of this collection of information is accurate and based on valid assumptions and methodology; ways to enhance the quality, utility, and clarity of the information to be collected.

Obtaining Copies of Proposals: Requesters may obtain a copy of the information collection documents from the GSA Regulatory Secretariat Division, by calling 202-501-4755 or emailing GSARegSec@gsa.gov. Please cite OMB Control No. 3090-0014, Transfer Order-Surplus Personal Property and Continuation Sheet, Standard Form (SF) 123, in all correspondence.

Lois Mandell,
Director, Regulatory Secretariat Division, General Services Administration.

[FR Doc. 2025-00993 Filed 1-15-25; 8:45 am]

BILLING CODE 6820-34-P